DEPARTMENT OF HEALTH AND HUMAN SERVICES

Administration for Children and Families

Submission for OMB Review; Child Care Improper Payments Data Collection Instructions; (OMB #0970-0323)

AGENCY: Office of Child Care, Administration for Children and Families, HHS.

ACTION: Request for public comment.

SUMMARY: The Administration for Children and Families is proposing revisions to an approved information collection Child Care Improper Payments Data Collection Instructions (OMB #0970-0323, expiration 10/31/2021). There are minor changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Section 2 of the Payment Integrity Information Act of 2019 (PIIA) provides for estimates and reports of improper payments by federal agencies. Subpart K of 45 CFR, Part 98 of the Child Care and Development Fund (CCDF) requires states to prepare and submit a report of errors occurring in the administration of CCDF grant funds once every 3 years.

The Office of Child Care (OCC) is completing the fifth 3-year cycle of case record reviews to meet the requirements for reporting under PIIA. The current data collection forms and instructions expire October 31, 2021. As part of the renewal process, OCC has revised the document with minor changes that do not change the methodology, but provide respondents with additional guidance, clarification, and support to facilitate completeness and accuracy of the required data submissions.

Clarifying language and a question have been added to the revised document to support Lead Agencies that administer all or part of the CCDF program through other governmental or non-governmental agencies to include the following:

• In Section 1 Introduction on page 2, a subsection “Considerations for Administering CCDF Through Other Agencies” was added to describe how Lead Agency responsibilities in administering the CCDF program through other entities apply to the error rate review process.

• In Section III Creating the Sampling Decisions, Assurances, and Fieldwork Preparation Plan on page 11, and the Sampling Decisions, Assurances, and Fieldwork Preparation Plan Report template (Attachment 1), a new item was added at Item 3g Case Review Logistics to request information about how a Lead Agency accesses documents stored by other entities if part of eligibility is determined by the other entity.

OCC is particularly interested in feedback about the clarity of these instructions and the ease and accuracy with which respondents can provide information on accessing documents stored by other entities.

Respondents: State grantees, the District of Columbia, and Puerto Rico.

Annual Burden Estimates
Instrument | Total number of respondents | Total number of responses per respondent | Average burden hours per response | Total burden hours | Annual burden hours
Sampling Decisions, Assurances, and Fieldwork Preparation Plan | 52 | 1 | 106 | 5,512 | 1,837
Record Review Worksheet | 52 | 276 | 6.33 | 90,848 | 30,283
State Improper Payments Report | 52 | 1 | 639 | 33,228 | 11,076
Corrective Action Plan | 5 | ᵃ 2 | 156 | 1,560 | 520
Estimated Total Annual Burden Hours |  |  |  |  | 43,716
ᵃ The total number of responses per respondent ranges from one to three, depending on how long it takes respondents to reduce the Improper Payment Rate to below the threshold. Respondents submit a Corrective Action Plan that covers a 1-year period; at the end of each year, if respondents have not reduced the Improper Payment Rate to below the threshold, they submit a new Corrective Action Plan for the following year. An average of two responses per respondent is used to calculate annual burden estimates.

(Authority: 45 CFR part 98, subpart K)

Mary B. Jones,
ACF/OPRE Certifying Officer.

[FR Doc. 2021-19299 Filed 9-7-21; 8:45 am]

BILLING CODE 4184-43-P